COMMITTEE FOR PURCHASE FROM PEOPLE WHO ARE BLIND OR SEVERELY DISABLED

Procurement List: Proposed deletions

AGENCY: Committee for Purchase from People Who are Blind or Severely Disabled.

ACTION: Proposed deletions from the Procurement List.

SUMMARY: The Committee is proposing to delete products and services from the Procurement List that were previously by nonprofit agencies employing persons who are blind or have other severe disabilities.

DATES: Comments must be received on or before: August 20, 2017.

ADDRESSES: Committee for Purchase From People Who Are Blind or Severely Disabled, 1401 S. Clark Street, Suite 715, Arlington, Virginia, 22202-4149.

FOR FURTHER INFORMATION OR TO SUBMIT COMMENTS CONTACT: Amy B. Jensen, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following products and services are proposed for deletion from the Procurement List:

Products

NSN(s)—Product Name(s):

8925-01-E62-1749—Walnuts, English, Shelled, Halves and Pieces, 2.75 lb.

8925-01-E62-1745—Almonds, Shelled, Sliced, Natural

8925-01-E62-1746—Almonds, Shelled, Sliced, Blanched

8925-01-E62-1747—Almonds, Shelled, Slivered, Blanched

8925-01-E62-1748—Walnuts, English, Shelled, Halves and Pieces, 2 lb.

Mandatory Source(s) of Supply: Transylvania Vocational Services, Inc., Brevard, NC

Contracting Activity: Defense Logistics Agency Troop Support

NSN(s)—Product Name(s):

7210-01-076-1087—Mattress, Bed, Innerspring, Type III, Firm, White with Blue Stripes, 36″ x 75″

7210-01-076-1082—Mattress, Bed, Innerspring, Type III, Firm, White with Blue Stripes, 36″ x 80″

7210-01-076-1083—Mattress, Bed, Innerspring, Type III, Firm, White with Blue Stripes, 39″ x 78″

7210-01-076-8359—Mattress, Bed, Innerspring, Type III, Extra Firm, White with Blue Stripes, 38″ x 80″

7210-01-076-9031—Mattress, Bed, Innerspring, Type III, Firm, White with Blue Stripes, 29″ x 76″

7210-01-078-2593—Mattress, Bed, Innerspring, Type III, Firm, White with Blue Stripes, 36″ x 78″

7210-01-177-1492—Mattress, Bed, Innerspring, Type II, Firm, White with Blue Stripes, 36″ x 80″

7210-01-177-1494—Mattress, Bed, Innerspring, Type II, Firm, White with Blue Stripes, 38″ x 75″

7210-01-177-1495—Mattress, Bed, Innerspring, Type II, Firm, White with Blue Stripes, 38″ x 80″

7210-01-177-1497—Mattress, Bed, Innerspring, Type II, Firm, White with Blue Stripes, 53″ x 75″

7210-01-177-1498—Mattress, Bed, Innerspring, Type II, Extra Firm, White with Blue Stripes, 29″ x 76″

7210-01-177-1499—Mattress, Bed, Innerspring, Type II, Extra Firm, White with Blue Stripes, 36″ x 75″

7210-01-177-1500—Mattress, Bed, Innerspring, Type II, Extra Firm, White with Blue Stripes, 36″ x 78″

7210-01-177-1501—Mattress, Bed, Innerspring, Type II, Extra Firm, White with Blue Stripes, 36″ x 80″

7210-01-177-1503—Mattress, Bed, Innerspring, Type II, Extra Firm, White with Blue Stripes, 38″ x 75″

7210-01-177-1504—Mattress, Bed, Innerspring, Type II, Extra Firm, White with Blue Stripes, 38″ x 80″

7210-01-177-1505—Mattress, Bed, Innerspring, Type II, Extra Firm, White with Blue Stripes, 39″ x 78″

7210-01-177-1506—Mattress, Bed, Innerspring, Type II, Extra Firm, White with Blue Stripes, 53″ x 75″

7210-01-177-1507—Mattress, Bed, Innerspring, Type III, Regular, White with Blue Stripes, 29″ x 76″

7210-01-177-1508—Mattress, Bed, Innerspring, Type III, Regular, White with Blue Stripes, 36″ x 75″

7210-01-177-1509—Mattress, Bed, Innerspring, Type III, Regular, White with Blue Stripes, 36″ x 78″

7210-01-177-1510—Mattress, Bed, Innerspring, Type III, Regular, White with Blue Stripes, 36″ x 80″

7210-01-177-1512—Mattress, Bed, Innerspring, Type III, Regular, White with Blue Stripes, 38″ x 75″

7210-01-177-1513—Mattress, Bed, Innerspring, Type III, Regular, White with Blue Stripes, 38″ x 80″

7210-01-177-1514—Mattress, Bed, Innerspring, Type III, Regular, White with Blue Stripes, 39″ x 78″

7210-01-177-1515—Mattress, Bed, Innerspring, Type III, Regular, White with Blue Stripes, 53″ x 75″

7210-01-177-3628—Mattress, Bed, Innerspring, Type II, Firm, White with Blue Stripes, 36″ x 75″

Mandatory Source(s) of Supply:

Mississippi Industries for the Blind, Jackson, MS

LC Industries, Inc., Durham, NC

Winston-Salem Industries for the Blind, Inc., Winston-Salem, NC

Lions Volunteer Blind Industries, Inc., Morristown, TN

Virginia Industries for the Blind, Charlottesville, VA

Contracting Activity: General Services Administration, Fort Worth, TX

NSN(s)—Product Name(s): 6545-01-584-1582—Kit, Improved First Aid, Army, OCP

Mandatory Source(s) of Supply: Southeastern Kentucky Rehabilitation Industries, Inc., Corbin, KY

Contracting Activity: Defense Logistics Agency Troop Support

NSN(s)—Product Name(s):

8415-00-NSH-1699—Shirt, Underwear, Lightweight Cold Weather Mock Turtle, Marine Corps, Coyote, X Small

Mandatory Source(s) of Supply: Peckham Vocational Industries, Inc., Lansing, MI

Contracting Activity: W40M NORTHEREGION CONTRACT OFC

NSN(s)—Product Name(s):

8415-01-543-7018—Trousers, ECWCS. Level 2, PCU, Army, Brown, M-L

8415-01-542-7642—Trousers, ECWCS. Level 2, PCU, Army, Brown, XS

8415-01-542-8534—Trousers, Lightweight Insulating, Level 2, ECWCS, PCU, Army, Brown, XXL

8415-01-542-8538—Trousers, Lightweight Insulating, Level 2, ECWCS, PCU, Army, Brown, XXXLL

8415-01-542-8540—Trousers, Lightweight Insulating, Level 2, ECWCS, PCU, Army, Brown, XXXL

8415-01-542-8542—Trousers, ECWCS, Insulating Level 2, PCU, Army, Brown, S

8415-01-542-8546—Trousers, Lightweight Insulating, Level 2, ECWCS, PCU, Army, Brown, L

8415-01-542-8549—Trousers, Lightweight Insulating, Level 2, ECWCS, PCU, Army, Brown, L-L

8415-01-542-8552—Trousers, Lightweight Insulating, Level 2, ECWCS, PCU, Army, Brown, XL

8415-01-542-8553—Trousers, Lightweight Insulating, Level 2, ECWCS, PCU, Army, Brown, XL-L

8415-01-542-8555—Trousers, Lightweight Insulating, Level 2, ECWCS, PCU, Army, Brown, XXLL

8415-01-542-9612—Trousers, Lightweight Combat, Level 2, ECWCS, PCU, Army, Brown, MR

8415-01-542-8545—Shirt, Lightweight, Level 2, ECWCS, PCU, Army, Long Sleeved, Brown, XXLL

8415-01-542-9576—Shirt, Lightweight, Level 2, ECWCS, PCU, Army, Long Sleeved, Brown, S

8415-01-542-9598—Shirt, Lightweight, Level 2, ECWCS, PCU, Army, Long Sleeved, Brown, M

8415-01-542-9609—Shirt, Lightweight, Level 2, ECWCS, PCU, Army, Long Sleeved, Brown, XL-L

8415-01-542-9613—Shirt, Lightweight, Level 2, ECWCS, PCU, Army, Long Sleeved, Brown, XXXL

8415-01-542-9615—Shirt, Lightweight, Level 2, ECWCS, PCU, Army, Long Sleeved, Brown, XXXLL

8415-01-542-9617—Shirt, Lightweight, Level 2, ECWCS, PCU, Army, Long Sleeved, Brown, XXL

8415-01-543-7047—Shirt, Level 2, ECWCS, PCU, Army, Long Sleeved, Brown, M-L

Mandatory Source(s) of Supply: Southeastern Kentucky Rehabilitation Industries, Inc., Corbin, KY

Contracting Activity: Army Contracting Command—Aberdeen Proving Ground, Natick Contracting Division

NSN(s)—Product Name(s):

8105-01-352-1390—Bag, Contamination

8105-01-352-1391—Bag, Contamination, 12″ x 24″

8105-01-352-1392—Bag, Contamination, 24″ x 24″

8105-01-352-1394—Bag, Contamination, 36″ x 60″

Mandatory Source(s) of Supply: Relay Resources, Portland, OR

Contracting Activity: Naval Supply Systems Command

NSN(s)—Product Name(s): 6135-01-275-1363—Battery, Non-Rechargeable, 6.0V, Alkaline, NEDA 1412A

Mandatory Source(s) of Supply: Eastern Carolina Vocational Center, Inc., Greenville, NC

Contracting Activity: Defense Logistics Agency Land and Maritime

NSN(s)—Product Name(s):

6545-00-NIB-0058—Kit, Collection, Specimen, Bag, Transparent

6545-00-NIB-0059—Kit, Collection, Specimen, Bottle, White

Mandatory Source(s) of Supply: Alphapointe, Kansas City, MO

Contracting Activity: U.S. Fleet Forces Command

NSN(s)—Product Name(s):

7510-01-584-0893—Business Card Holder, Rosewood

7520-01-554-5467—Rosewood Deluxe Office Start-Up Kit

Mandatory Source(s) of Supply: Tarrant County Association for the Blind, Fort Worth, TX

Contracting Activity: General Services Administration, New York, NY

NSN(s)—Product Name(s):

7520-01-451-9188—Pen Set, Ballpoint and Fountain, Executive, Metallic Burgundy, Medium Point

7520-01-451-9192—Pen Set, Ballpoint and Fountain, Executive, Metallic Blue, Medium Point

7510-01-451-9186—Refill, Executive Fountain Pen, Blue Ink

7510-01-451-9191—Refill, Executive Fountain Pen, Black Ink

7520-01-451-2278—Pen, Executive Fountain, Refillable, Blue Barrel, Fine Tip

7520-01-451-2274—Pen, Executive, Twist Retractable, Refillable, Navy Blue, Blue Ink, Fine Point

7520-01-451-2275—Pen, Executive, Twist Retractable, Refillable, Burgundy, Black Ink, Fine Point

7520-01-451-2276—Pen, Executive, Twist Retractable, Refillable, Gun Metal, Blue Ink, Medium Point

7520-01-451-2279—Pen, Executive, Twist Retractable, Refillable, Black, Black Ink, Medium Point

Mandatory Source(s) of Supply: Industries for the Blind, Inc., West Allis, WI

Contracting Activity: General Services Administration, New York, NY

Services

Service Type: Assembly of Backpack Pump Outfit Service

Mandatory for: GSA, Southwest Supply Center: 819 Taylor Street, Fort Worth, TX

Mandatory Source(s) of Supply: Expanco, Inc., Fort Worth, TX

Contracting Activity: General Services Administration, Fort Worth, TX

Service Type: Janitorial/Custodial Service

Mandatory for: Naval & Marine Corps Reserve Center: 1620 East Saginaw Street, Lansing, MI

Mandatory Source(s) of Supply: Peckham Vocational Industries, Inc., Lansing, MI

Contracting Activity: Dept of the Navy, Naval FAC Engineeering CMD Midwest

Service Type: Janitorial/Custodial Service

Mandatory for: Atlanta Naval Air Station: 1000 Halsey Avenue, Marietta, GA

Mandatory Source(s) of Supply: Nobis Enterprises, Inc., Marietta, GA

Contracting Activity: Dept of the Navy, Naval FAC Engineeering CMD

Amy B. Jensen,
Director, Business Operations.

[FR Doc. 2017-15385 Filed 7-20-17; 8:45 am]

BILLING CODE 6353-01-P